DEPARTMENT OF HEALTH AND HUMAN SERVICES

Centers for Medicare and Medicaid Services

Announcement of Office of Management and Budget (OMB) Control Numbers for Agency Information Collections Approved Under the Paperwork Reduction Act of 1995

AGENCY: Centers for Medicare and Medicaid Services, HHS.

This notice announces and displays OMB control numbers for Centers for Medicare and Medicaid Services (CMS) information collections that have been approved by OMB.

Under OMB's regulations implementing the Paperwork Reduction Act (PRA), 44 U.S.C. 3501, each agency that proposes to collect information must submit its proposal for OMB review and approval in accordance with 5 CFR part 1320. Once OMB has approved an agency's proposed collection of information and issues a control number, the agency must display the control number.

OMB regulations provide for alternative methods of displaying OMB control numbers. In the case of collections of information published in regulations, display is to be “provided in a manner that is reasonably calculated to inform the public.” To meet this requirement an agency may display such information in the Federal Register by publishing such information in the preamble or the regulatory text, or in a technical amendment to the regulation, or in a separate notice announcing OMB approval of the collection of information.

To comply with this requirement, CMS has chosen to publish this notice announcing OMB approval of the collections of information published in regulations. As stated above, this notice announces and displays the assigned OMB control numbers for CMS's information collections that have been approved by OMB.

| OMB control Nos.
42 CFR:
405.262 | 0938-0267
405.371 | 0938-0600
405.376 | 0938-0270
405.378 | 0938-0600
405.410 | 0938-0730
405.430, 405.435, 405.440, 405.445, 405.455 | 0938-0730
405.711 | 0938-0045
405.807 | 0938-0033
405.821 | 0938-0034
405.2100-405.2171 | 0938-0386
405.2110, 405.2112 | 0938-0657, & 0658
405.2133 | 0938-0046
405.2135-405.2171 | 0938-0360
405.2470 | 0938-0155
406.7 | 0938-0251
406.13 | 0938-0080
406.15 | 0938-0501
406.28 | 0938-0025 & 0787
407.10, 407.11 | 0938-0245
407.18 | 0938-0679
407.27 | 0938-0025 & 0787
407.40 | 0938-0035
408.6 | 0938-0041
409.40-409.50 | 0938-0357
410.1 | 0938-0679
410.2 | 0938-0770
410.32 | 0938-0685
410.33 | 0938-0721
410.36 | 0938-0357
410.38 | 0938-0534
410.40 | 0938-0042
410.61 | 0938-0730
410.71 | 0938-0685
410.141-410.145 | 0938-0818
410.170 | 0938-0357
411.1 | 0938-0846
411.4-411.15 | 0938-0357
411.20-411.206 | 0938-0565
411.350-411.357 | 0938-0846
411.370—411.389 | 0938-0714
411.404—411.406 | 0938-0465, 0781 & 0692
411.408 | 0938-0566
412 | 0938-0842
412.20-412.32 | 0938-0358
412.40-412.52 | 0938-0359
412.42 | 0938-0692
412.44, 412.46 | 0938-0445
412.92 | 0938-0477
412.105 | 0938-0456
412.106 | 0938-0691
412.116 | 0938-0269
412.256 | 0938-0573
413 | 0938-0842
413.17 | 0938-0202 & 0685
413.20 | 0938-0202, 0236 & 0600
413.20, 413.24 | 0938-0022, 0037, 0050, 0102, 0107, 0236, 0301, 0463, 0511 & 0758
413.64 | 0938-0269
413.106 | 0938-0022
413.170 | 0938-0296
413.343 | 0938-0739
414.40 | 0938-0008
414.63 | 0938-0818
414.330 | 0938-0372
415.50, 415.55, 415.60, 415.70 | 0938-0301
415.110 | 0938-0730
415.150, 415.152, 415.160, 415.162 | 0938-0301
416.1-416.150 | 0938-0266
416.44 | 0938-0242
417.126 | 0938-0469 & 0732
417.143 | 0938-0470
417.162 | 0938-0469
417.408 | 0938-0470
417.436 | 0938-0610
417.440 | 0938-0692
417.470 | 0938-0732
417.478 | 0938-0469
417.479, 417.500 | 0938-0700
417.801 | 0938-0610
417.800-417.840 | 0938-0768
418.1-418.405 | 0938-0313& 0379
418.22, 418.24, 418.28, 418.56, 418.58, 418.70, 418.83, 418.96, 418.100 | 0938-0302
418.100 | 0938-0242
420.200-420.206 | 0938-0086
421.100 | 0938-0357
421.310, 421.312 | 0938-0723
422.1-422.10, 422.50-422.80, 422.100-422.132, 422.300-422.312, 422.400-422.404, 422.560-422.622 | 0938-0763
422.1-422.700 | 0938-0753
422.64, 422.111, 422.560—422.622 | 0938-0778
422.152 | 0938-0701 & 0840
422.208, 422.210 | 0938-0700
422.300-422.312 | 0938-0742
422.370-422.378 | 0938-0722
422.568 | 0938-0829
422.620 | 0938-0692
424.5 | 0938-0534 & 0279
424.20 | 0938-0454
424.22 | 0938-0357, 0489 & 0846
424.24 | 0938-0730
424.32 | 0938-0008 & 0739
424.44 | 0938-0008
424.57 | 0938-0717, 0749, & 0685
424.73, 424.80 | 0938-0685
424.103 | 0938-0023
424.123 | 0938-0484
424.124 | 0938-0042
426.102-426.104 | 0938-0526
430.10 | 0938-0673
430.10-430.20 | 0938-0193
430.12 | 0938-0610
430.20 | 0938-0610
430.30 | 0938-0101
431.1-431.865 | 0938-0062
431.17 | 0938-0467
431.107 | 0938-0610
431.306 | 0938-0467
431.630 | 0938-0445
431.636 | 0938-0841
431.800 | 0938-0300
431.800-431.820 | 0938-0144
431.800-431.865 | 0938-0146, 0147, & 0246
433.68, 433.74 | 0938-0618
433.138 | 0938-0502
434.28 | 0938-0610
434.44, 434.67, 434.70 | 0938-0700
435.1-435.1011 | 0938-0062
435.910, 435.920, 435.940-435.960 | 0938-0467
438.364 | 0938-0786
440.1-440.270 | 0938-0062
440.30 | 0938-0685
440.167 | 0938-0193
440.180 | 0938-0272, & 0449
441.16 | 0938-0713
441.60 | 0938-0354
441.152 | 0938-0754
441.300-441.305 | 0938-0272
441.300-441.310 | 0938-0449
442.1-442.119 | 0938-0062
447.31 | 0938-0287
447.53 | 0938-0429
447.254 | 0938-0784
447.272 | 0938-0618 & 0855
447.280 | 0938-0624
447.321 | 0938-0855
447.500-447.542 | 0938-0676
447.550 | 0938-0676
455.100-455.106 | 0938-0086
456.654 | 0938-0445
456.700, 456.705, 456.709, 456.711, 456.712 | 0938-0659
457.50, 457.60, 457.70, 457.340, 457.350, 457.431, 457.440, 457.525, 457.560, 457.570, 457.740, 457.750, 457.810, 457.940, 457.945, 457.965, 457.985, 457.1005, 457.1015, 457.1180 | 0938-0841
460.12, 460.22, 460.30, 460.32, 460.52, 460.60, 460.68, 460.70, 460.72, 460.74, 460.80, 460.82, 460.98, 460.100, 460.102, 460.104, 460.106, 460.110, 460.112, 460.116, 460.118, 460.120, 460.122, 460.124, 460.132, 460.152, 460.154, 460.156, 460.160, 460.164, 460.168, 460.172, 460.190, 460.196, 460.200, 460.202, 460.204, 460.206, 460.208, 460.210 | 0938-0790
466.71, 466.73, 466.74, 466.78 | 0938-0445
466.78 | 0938-0692
473.18, 473.34, 473.36, 473.42 | 0938-0443
476.104, 476.105, 476.116, 476.134 | 0938-0426
482.1-482.66 | 0938-0380
482.2-482.57 | 0938-0382
482.12, 482.22 | 0938-0328
482.27 | 0938-0328
482.41 | 0938-0242
482.30, 482.41, 482.43, 482.53, 482.56, 482.57 | 0938-0328
482.45 | 0938-0810
482.60—482.62 | 0938-0378 & 0328
482.66 | 0938-0328, & 0624
483.10 | 0938-0610
483.270 | 0938-0242
483.350-483.376 | 0938-0833
483.400-483.480 | 0938-0062
483.470 | 0938-0242
484.1-484.52 | 0938-0365
484.10 | 0938-0610 & 0781
484.10-484.52 | 0938-0355
484.11 | 0938-0761
484.12 | 0938-0685
484.18 | 0938-0357
484.20 | 0938-0761
484.55 | 0938-0760
484.220 | 0938-0760
485.56, 485.58, 485.60, 485.64, 485.66 | 0938-0267
485.701-485.729 | 0938-0065, & 0273
486.100—486.110 | 0938-0027
486.104, 486.106, 486.110 | 0938-0338
486.301-486.325 | 0938-0512, & 0688
488.4-488.9 | 0938-0690
488.18 | 0938-0391, & 0667
488.26 | 0938-0391
488.28 | 0938-0391
488.60 | 0938-0360
488.201 | 0938-0690
489 | 0938-0832
489.20 | 0938-0214, 0667, & 0692
489.21 | 0938-0357
489.24 | 0938-0667
489.27 | 0938-0692
489.32, 489.34 | 0938-0692
489.66, 489.67 | 0938-0713
489.102 | 0938-0610
491.1-491.11 | 0938-0074
491.3, 491.8 | 0938-0792
491.9 | 0938-0334
493.1-493.2001 | 0938-0151, 0544, 0581, 0599, 0612, 0650, & 0653
493.551-493.557 | 0938-0686
493.1269—493.1285 | 0938-0170
493.1840 | 0938-0655
498.40-498.95 | 0938-0486, & 0567
1003.100, 1003.101, 1003.103 | 0938-0700
1004.40, 1004.50, 1004.60, 1004.70 | 0938-0444
45 CFR:
5b | 0938-0734
146 | 0938-0702
146.121 | 0938-0819
146.141 | 0938-0827
148 | 0938-0703 & 0797

Dated: January 15, 2002.
John P. Burke III,
CMS Reports Clearance Officer, CMS Office of Information Services, Security and Standards Group, Division of CMS Enterprise Standards.

[FR Doc. 02-1686 Filed 1-23-02; 8:45 am]

BILLING CODE 4120-03-P